DEPARTMENT OF HEALTH AND HUMAN SERVICES

Health Resources and Services Administration

Children's Hospitals Graduate Medical Education (CHGME) Program Conference

AGENCY: Health Resources and Services Administration, HHS.

ACTION: Notice of public hearing.

SUMMARY: This document announces a public hearing to receive information and views on the notice that proposed criteria for the Children's Hospitals Graduate Medical Education (CHGME) Payment Program, published in the Federal Register on March 1, 2001 (66 FR 12940-12954). The proposed criteria included the following: (1) The determination of full-time equivalency (FTE) resident count, (2) the treatment of new children's teaching hospitals, and (3) the methodology for indirect medical education (IME) payments. The notice also announced final eligibility, funding criteria, payment methodology and performance measures for the CHGME Program. This conference will brief the public on the above criteria and methodologies as well as also hear public comments on the above proposed criteria for the CHGME program. The public also may participate in the conference by telephone as described below.

DATES: The public hearing will be held on March 14, 2001, at 2:00 p.m. to 4:00 p.m. EST.

ADDRESSES: The public hearing will be held in Conference Room C in the Parklawn Building, 5600 Fishers Lane, Rockville, Maryland 20857.

FOR FURTHER INFORMATION CONTACT: Ayah E. Johnson, Ph.D., telephone: (301) 443-1058; Division of Medicine and Dentistry, Bureau of Health Professions, Room 9A-27, Parklawn Building, 5600 Fishers Lane, Rockville, Maryland 20857; or by e-mail at: ajohnson@hrsa.gov.

SUPPLEMENTARY INFORMATION: The CHGME Program, as authorized by section 340E of the Public Health Service (PHS) Act (the Act) (42 U.S.C. 256e), provides funds to children's hospitals to address disparity in the level of Federal funding for children's hospitals that result from Medicare funding for graduate medical education (GME). Pub. L. 106-310 amended the CHGME statute to extend the program through Federal fiscal year 2005.

On June 19, 2000, the Secretary published a notice in the Federal Register (65 FR 37985) setting forth proposed rules to implement the CHGME Program. The Department received 21 public comments and made numerous revisions and clarifications as reflected in the notice published March 1, 2001 in the Federal Register.

The conference will again provide information on the proposed criteria contained in the March 1, 2001, CHGME notice. The agenda for the briefing and hearings will include: (1) The determination of FTE resident count, (2) the treatment of new children's teaching hospitals, and (3) the methodology for IME payments. It also will include information on the Government Performance and Results Act (GPRA) and other laws applicable to the CHGME Payment Program. Time will also be available for a question and answer period. Information about the program can be found on the CHGME web site (http://www.bhpr.hrsa.gov/childrenshospitalgme).

In order for individuals to participate by telephone, they must dial: (888) 829-8672 and enter the corresponding pass code 55591. For security reasons, the pass code 55591 and Dr. Ayah Johnson's name, as call leader, are required to join the call. Telephone participants should call no later than 1:45 p.m. in order for the logistics to be set up.

Dated: March 7, 2001.
Claude Earl Fox,
Administrator.

[FR Doc. 01-6113 Filed 3-9-01; 8:45 am]

BILLING CODE 4160-15-U